Title 3—

The President

Proclamation 10346 of March 1, 2022

Read Across America Day, 2022

By the President of the United States of America

A Proclamation

Reading ignites imagination, insight, and inspiration. It nourishes a child's creativity and curiosity, and inspires a passion for lifelong learning. Books can challenge and inspire. They can teach important lessons, reveal new worlds, and enrich our understanding of our own—of different people, perspectives, and cultures. On Read Across America Day, we celebrate the joy of learning and give thanks to the parents, caregivers, educators, librarians, authors, and community members who invest in our Nation's children.

For many young Americans, the path to literacy begins with treasured and timeless traditions: being read to at bedtime, gathering in classrooms for story time, and attending events at local libraries with family and friends. Children's classics such as Dr. Seuss' “Green Eggs and Ham” and “Oh, the Places You'll Go!” have inspired a passion for reading and endless creativity that spans generations. Today's stories and adventures are as diverse as the world in which we live, and by reading them, we come to more fully understand the vibrant diversity of our Nation—and the world. This is especially important as young people learn and grow and engage with their own sense of identity. Books build each child's sense of belonging and can help inculcate respect and empathy for others.

The First Lady, a lifelong educator, has said, “reading is the foundation of all education. It affects every aspect of our society.” This has never been truer than today. It is one of the many reasons why my Administration is committed to advancing educational excellence for every child and literacy for every American. It is why I have proposed making 2 years of high-quality preschool available to every child in America. It is one of the reasons why safely reopening schools for in-person instruction was a priority for my Administration from day one—so that children could get back to learning in the classroom with their peers—and why the American Rescue Plan included $122 billion to keep schools open safely and help address the learning loss and mental health impacts of missing school. School districts across the country are already using these funds to support literacy efforts by updating curricula and hiring specialists.

My Administration is also committed to supporting volunteer and literacy programs that help young people and adults master reading. This work is crucial, as half of adults in the United States are unable to read a book written for the eighth-grade level, and nearly a quarter of American adults have not read a book over the last year.

I often say that children are the kite strings that keep our National ambitions aloft. On Read Across America Day, we dedicate ourselves to helping each new generation of readers and thinkers become the leaders who will write a more hopeful chapter in the American narrative and in the story of our shared world. As the great American writer Toni Morrison reminds us: “If you find a book you really want to read but it hasn't been written yet, then you must write it.”

NOW, THEREFORE, I, JOSEPH R. BIDEN JR., President of the United States of America, by virtue of the authority vested in me by the Constitution and the laws of the United States, do hereby proclaim March 2, 2022, as Read Across America Day. I call upon children, families, educators, librarians, public officials, and all the people of the United States to observe this day with appropriate programs, ceremonies, and activities.

IN WITNESS WHEREOF, I have hereunto set my hand this first day of March, in the year of our Lord two thousand twenty-two, and of the Independence of the United States of America the two hundred and forty-sixth.

[FR Doc. 2022-04776

Filed 3-3-22; 8:45 am]

Billing code 3395-F2-P